DEPARTMENT OF ENERGY

Federal Energy Regulatory Commission

[Docket No. EG01-30-000, et al.]

Naniwa Energy LLC, et al.; Electric Rate and Corporate Regulation Filings

November 21, 2000.

Take notice that the following filings have been made with the Commission:

1. Naniwa Energy LLC

[Docket No. EG01-30-000]

Take notice that on November 15, 2000, Naniwa Energy LLC (Applicant), 1585 Broadway, New York, NY 10036-8293, filed with the Federal Energy Regulatory Commission (Commission) an application for determination of exempt wholesale generator status pursuant to Part 365 of the Commission's regulations.

Applicant, a Delaware limited liability company, intends to own and/or operate an eligible facility in Nevada. These facilities will consist of up to six natural gas-fired Westinghouse and Mitsubishi Model 501AA combustion turbines, each with approximately sixty megawatts capacity, as well as interconnecting transmission facilities necessary to effect sales of electric energy at wholesale.

Comment date: December 12, 2000, in accordance with Standard Paragraph E at the end of this notice. The Commission will limit its consideration of comments to those that concern the adequacy or accuracy of the application.

2. Arizona Public Service Company

[Docket No. ER01-463-000]

Take notice that on November 16, 2000, Arizona Public Service Company (APS), tendered for filing a revision to its Open Access Transmission Tariff (OATT) in order to Standardized procedures for requesting interconnection service (Attachment M) and a pro forma Interconnection and Operating Agreement (Attachment N).

APS requests an effective date of November 17, 2000.

A copy of this filing has been served on the Arizona Corporation Commission, Panda Gila River, L.P., Pinnacle West Energy Company, Reliant Energy Desert Basin LLC, and AES. Copies of the filing can be viewed on APS' OASIS website, www.azpsoasis.com.

Comment date: December 7, 2000, in accordance with Standard Paragraph E at the end of this notice.

3. PJM Interconnection, L.L.C.

[Docket No. ER01-469-000]

Take notice that on November 15, 2000 PJM Interconnection, L.L.C. (PJM) tendered for filing Thirty (30) signatory pages of parties to the Operating Agreement. PJM requests an effective date on the day after this Notice of Filing is received by FERC.

Comment date: December 7, 2000, in accordance with Standard Paragraph E at the end of this notice.

4. American Transmission Systems, Inc.

[Docket No. ER01-274-001]

Take note that on November 17, 2000, American Transmission Systems, Inc. (ATSI), an Amendment to its October 31, 2000 filing in this case to conform the 1st Revised Service Agreement No. 214 for Network Integration Transmission Service provided by American Transmission Systems, Inc. to American Municipal Power-Ohio, Inc. (AMP-Ohio) on behalf of certain designated municipal electric systems in Ohio and Pennsylvania to the requirements of Order No. 614. The Amendment does not modify the terms and conditions of the Network Agreements between American Transmission Systems, Inc. and AMP-Ohio.

American Transmission Systems, Inc. renews its request for an effective date of October 1, 2000 for the 1st Revised Service Agreement No. 214.

Copies of this filing have been served on the utility commissions in Ohio and Pennsylvania.

Comment date: December 7, 2000, in accordance with Standard Paragraph E at the end of this notice.

5. Miami Valley Lighting, Inc.

[Docket No. ER01-95-001]

Take notice that on November 16, 2000, Miami Valley Lighting, Inc., (MVLT), a wholly owned subsidiary of DPL Inc., tendered for filing a rate schedule to engage in sales at market-based rates. MVLT included in its filing a proposed code of conduct.

Comment date: December 7, 2000, in accordance with Standard Paragraph E at the end of this notice.

6. New England Power Pool

[Docket No. ER01-459-000]

Take notice that on November 15, 2000, the New England Power Pool (NEPOOL) tendered for filing (1) the Sixty-Seventh Agreement Amending New England Power Pool Agreement, which changes the amortization and repayment methodology for certain expenses related to the restructuring of NEPOOL (the Restructuring Expense) incurred before May 1, 1999, and (2) the Sixty-Eighth Agreement Amending New England Power Pool Agreement, which changes the collection, amortization and repayment methodology for the Restructuring Expense incurred on and after January 1, 2000 and makes revisions related to alternative funding arrangements for certain portions of the Restructuring Expense.

A January 1, 2001 effective date is requested for these Agreements.

The NEPOOL Participants Committee states that copies of these materials were sent to the NEPOOL Participants and the New England state governors and regulatory commissions.

Comment date: December 6, 2000, in accordance with Standard Paragraph E at the end of this notice.

7. Allegheny Energy Service Corporation, on behalf of Monongahela Power Company, The Potomac Edison Company, and West Penn Power Company (Allegheny Power)

[Docket No. ER01-456-000]

Take notice that on November 15, 2000, Allegheny Energy Service Corporation on behalf of Monongahela Power Company, The Potomac Edison Company and West Penn Power Company (Allegheny Power), tendered for filing a Notice of Cancellation for Service Agreements with FPL Energy Services, Inc., (Customer) a customer under Allegheny Power's Open Access Transmission Service Tariff and Market Rate Tariff.

Allegheny Power has requested that the cancellations be effective as of November 14, 2000.

Copies of the filing have been provided to the Customer, the Public Utilities Commission of Ohio, the Pennsylvania Public Utility Commission, the Maryland Public Service Commission, the Virginia State Corporation Commission, and the West Virginia Public Service Commission.

Comment date: December 6, 2000, in accordance with Standard Paragraph E at the end of this notice.

8. Naniwa Energy LLC

[Docket No. ER01-457-000]

Take notice that on November 15, 2000, Naniwa Energy LLC petitioned the Commission for acceptance of its Rate Schedule FERC No. 1, the granting of certain blanket approvals, including the authority to sell electricity at market-based rates, and the waiver of certain of the Commission's Regulations.

Comment date: December 6, 2000, in accordance with Standard Paragraph E at the end of this notice.

9. PECO Energy Company

[Docket No. ER01-455-000]

Take notice that on November 8, 2000, PECO Energy Company (PECO), tendered for filing under Section 205 of the Federal Power Act, 16 U.S.C. S 792 et seq., an Agreement dated November 1, 2000 with Split Rock Energy LLC (SRE) under PECO's FERC Electric Tariff Original Volume No. 1 (Tariff).

PECO requests an effective date of November 1, 2000 for the Agreement.

PECO states that copies of this filing have been supplied to Split Rock Energy LLC and to the Pennsylvania Public Utility Commission.

Comment date: December 6, 2000, in accordance with Standard Paragraph E at the end of this notice.

10. American Electric Power Service Corporation

[Docket No. ER01-454-000]

Take notice that on November 15, 2000, the American Electric Power Service Corporation (AEPSC), tendered for filing executed Interconnection and Operation Agreement between Ohio Power Company and PSEG Waterford Energy, LLC. The agreement is pursuant to the AEP Companies' Open Access Transmission Service Tariff (OATT) that has been designated as the Operating Companies of the American Electric Power System FERC Electric Tariff Revised Volume No. 6, effective June 15, 2000.

AEP requests an effective date of November 20, 2000.

A copy of the filing was served upon the Public Utilities Commission of Ohio.

Comment date: December 6, 2000, in accordance with Standard Paragraph E at the end of this notice.

11. UtiliCorp United Inc.

[Docket No. ER01-452-000]

Take notice that on November 15, 2000, UtiliCorp United Inc. (UtiliCorp), tendered for filing on behalf of its WestPlains Energy-Colorado operating division, a service agreement for sales of energy and capacity to UtiliCorp from The Pueblo Chieftain.

Comment date: December 6, 2000, in accordance with Standard Paragraph E at the end of this notice.

12. Cinergy Services, Inc.

[Docket No. ER00-139-001]

Take notice that on November 15, 2000, Cinergy Services, Inc. (Cinergy), tendered for filing (1) a Notice of Letter of Acquisition of Merger of Citizens Power LLC into Edison Mission Marketing & Trading (2) a Notice of Name Changes from Amoco Energy Trading Corporation to BP Energy Company; (3) a Notice of Name Change from Williams Energy Services Company to Williams Energy Marketing & Trading Company; and (4) a Notice of Name Change from Engage Energy US, L.P. to Coastal Merchant Energy, L.P.

Cinergy respectfully requests waiver of any applicable regulation to the extent necessary to make the tariff changes effective as of the date of each of the listed name changes.

A copy of the filing was served upon the affected parties.

Comment date: December 6, 2000, in accordance with Standard Paragraph E at the end of this notice.

13. SOWEGA Power LLC

[Docket No. ER00-3775-001]

Take notice that on November 15, 2000, SOWEGA Power LLC made a compliance filing consisting of amended and restated long-term service agreements with Grady Electric Membership Corporation and Three Notch Electric Membership Corporation pursuant to SOWEGA Power LLC's market-based tariff, FERC Electric Tariff, Original Vol. No. 1. These amended and restated long-term service agreements are designated as SOWEGA Power's First Revised Rate Schedule FERC No. 1 and First Revised Rate Schedule FERC No. 2, respectively, and were approved by the Commission effective November 2, 2000 conditioned on this compliance filing designating such agreements under Order No. 614.

Comment date: December 6, 2000, in accordance with Standard Paragraph E at the end of this notice.

14. Pacific Gas and Electric Company

[Docket No. ER01-460-000]

Take notice that on November 15, 2000, Pacific Gas and Electric Company (PG&E), tendered for filing revised Must-Run Service Agreements (RMR Agreements) between it and the California Independent System Operator Corporation (ISO). Under these agreements PG&E dispatches certain power plants designated as Reliability Must-Run by the ISO. Because the ISO has renewed these contracts for 2001, PG&E's filing proposes updates in accordance with contract terms to contract service limits, Target Available Hours, Availability rates and Pre-paid Start-up Charges. This filing also revises PG&E's RMR Agreements to conform with several changes to terms and conditions, in compliance with the Commission's approval of the August 14, 2000, settlement among the ISO, PG&E and various parties. In addition, this filing conforms PG&E's RMR Agreements to the requirements of Order No. 614.

Copies of this filing have been served upon the ISO, the California Electricity Oversight Board, and the California Public Utilities Commission.

Comment date: December 6, 2000, in accordance with Standard Paragraph E at the end of this notice.

15. Idaho Power Company

[Docket No. ER01-458-000]

Take notice that on November 15, 2000, Idaho Power Company (IPC) tendered for filing with the Federal Energy Regulatory Commission a Service Agreement for Firm Point-to-Point Transmission Service between Idaho Power Company and Morgan Stanley Capital Group Inc.

Comment date: December 6, 2000, in accordance with Standard Paragraph E at the end of this notice.

16. Southern California Edison Company

[Docket No. ER01-414-000]

Take notice that the Notice of Filing issued on November 17, 2000, in Docket No. ER01-414-000, should be rescinded.

17. Consumers Energy Company; Michigan Electric Transmission Company

[Docket No. ER01-410-000]

Take notice that the Notice of Filing issued on November 17, 2000, in Docket No. ER01-410-000, should be rescinded.

18. Southern California Edison Company

Docket No. ER01-411-000

Take notice that the Notice of Filing issued on November 17, 2000, in Docket No. ER01-411-000, should be rescinded.

19. New York State Electric & Gas Corporation

[Docket No. ER01-451-000]

Take notice that on November 15, 2000, New York State Electric & Gas Corporation (NYSEG), tendered for filing pursuant to Section 205 of the Federal Power Act and Section 35.13 of the Federal Energy Regulatory Commission's (FERC or Commission) Regulations, an amendment to Rate Schedule 200 filed with FERC corresponding to an Agreement with the New York Power Authority (NYPA). The proposed amendment would initiate revenues of $117,881 for new facilities for the period from September 25, 2000 through August 31, 2001.

This rate filing is made pursuant to Paragraph 5.1 of the October 19, 1999 Facilities Agreement between NYSEG and NYPA, filed with FERC. The annual charges for routine operation and maintenance and general expenses, as well as property taxes, are revised based on data taken from NYSEG's Annual Report to the Federal Energy Regulatory Commission (FERC Form 1) for the twelve month ended December 31, 1999. The revised facilities charge is levied on the cost of the 135 MVAR capacitor and associated equipment interconnected with NYSEG's Oakdale Substation, constructed by NYSEG for the sole use of NYPA.

NYSEG requests an effective date of September 1, 2000.

Copies of the filing were served upon the New York Power Authority and the Public Service Commission of the State of New York.

Comment date: December 6, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-30340 Filed 11-28-00; 8:45 am]

BILLING CODE 6717-01-P